DEPARTMENT OF TRANSPORTATION

Federal Aviation Administration

14 CFR Part 39

[Docket No. FAA-2015-7532; Directorate Identifier 2015-NM-069-AD; Amendment 39-18477; AD 2016-08-01]

RIN 2120-AA64

Airworthiness Directives; Dassault Aviation

AGENCY: Federal Aviation Administration (FAA), Department of Transportation (DOT).

ACTION: Final rule.

SUMMARY: We are adopting a new airworthiness directive (AD) for all Dassault Aviation Model FALCON 7X airplanes. This AD was prompted by reports of multiple cases of ram air turbine (RAT) blade damage. This AD requires deployment of the RAT, replacement of the RAT placard with a new RAT placard, and re-identification of the RAT. We are issuing this AD to prevent blade damage to the RAT, which could prevent RAT deployment in flight during an emergency, possibly resulting in reduced control of the airplane.

DATES: This AD is effective May 31, 2016.

The Director of the Federal Register approved the incorporation by reference of a certain publication listed in this AD as of May 31, 2016.

ADDRESSES: For service information identified in this final rule, contact Dassault Falcon Jet, P.O. Box 2000, South Hackensack, NJ 07606; telephone: 201-440-6700; Internet: http://www.dassaultfalcon.com. You may view this referenced service information at the FAA, Transport Airplane Directorate, 1601 Lind Avenue SW., Renton, WA. For information on the availability of this material at the FAA, call 425-227-1221. It is also available on the Internet at http://www.regulations.gov by searching for and locating Docket No. FAA-2015-7532.

Examining the AD Docket

You may examine the AD docket on the Internet at http://www.regulations.gov by searching for and locating Docket No. FAA-2015-7532; or in person at the Docket Management Facility between 9 a.m. and 5 p.m., Monday through Friday, except Federal holidays. The AD docket contains this AD, the regulatory evaluation, any comments received, and other information. The street address for the Docket Office (telephone: 800-647-5527) is Docket Management Facility, U.S. Department of Transportation, Docket Operations, M-30, West Building Ground Floor, Room W12-140, 1200 New Jersey Avenue SE., Washington, DC 20590.

FOR FURTHER INFORMATION CONTACT: Tom Rodriquez, Aerospace Engineer, International Branch, ANM-116, Transport Airplane Directorate, FAA, 1601 Lind Avenue SW., Renton, WA 98057-3356; telephone: 425-227-1137; fax: 425-227-1149.

SUPPLEMENTARY INFORMATION:

Discussion

We issued a notice of proposed rulemaking (NPRM) to amend 14 CFR part 39 by adding an AD that would apply to all Dassault Aviation Model FALCON 7X airplanes. The NPRM published in the Federal Register on January 4, 2016 (81 FR 28) (“the NPRM”). The NPRM was prompted by reports of multiple cases of ram air turbine (RAT) blade damage. The NPRM proposed to require deployment of the RAT, replacement of the RAT placard with a new RAT placard, and re-identification of the RAT. We are issuing this AD to prevent blade damage to the RAT, which could prevent RAT deployment in flight during an emergency, possibly resulting in reduced control of the airplane.

The European Aviation Safety Agency (EASA), which is the Technical Agent for the Member States of the European Union, has issued EASA AD 2015-0076, dated May 6, 2015 (referred to after this as the Mandatory Continuing Airworthiness Information, or “the MCAI”), to correct an unsafe condition for all Dassault Aviation Model FALCON 7X airplanes. The MCAI states:

A few cases of Ram Air Turbine (RAT) blade damage have been reported during maintenance operations. This kind of damage is caused by an incorrect locking of RAT rotor, due to improper positioning of blades at beginning of retraction, and locking check during retraction, which likely occurs during stowage of the RAT, after its deployment for maintenance purposes.

This condition, if not corrected, could prevent RAT deployment in flight during an emergency, possibly resulting in reduced control of the aeroplane.

To address this potential unsafe condition, Dassault Aviation issued Service Bulletin (SB) 7X-289, which provides instructions to smoothly deploy the RAT and install an improved placard to ensure proper RAT stowage/retraction after maintenance.

For the reasons described above, this [EASA] AD requires replacement of the existing RAT placard with a new placard and RAT re-identification. This [EASA] AD also provides conditions for installation of a RAT on an aeroplane.

You may examine the MCAI in the AD docket on the Internet at http://www.regulations.gov by searching for and locating Docket No. FAA-2015-7532.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

We reviewed Dassault Service Bulletin 7X-289, dated January 21, 2015. The service information describes procedures for deployment of the RAT, replacement of the RAT placard with a new RAT placard, and re-identification of the RAT. This service information is reasonably available because the interested parties have access to it through their normal course of business or by the means identified in the ADDRESSES section.

Costs of Compliance

We estimate that this AD affects 45 airplanes of U.S. registry.

We also estimate that it will take about 4 work-hours per product to comply with the basic requirements of this AD. The average labor rate is $85 per work-hour. Required parts will cost about $121 per product. Based on these figures, we estimate the cost of this AD on U.S. operators to be $20,745, or $461 per product.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-08-01 Dassault Aviation: Amendment 39-18477. Docket No. FAA-2015-7532; Directorate Identifier 2015-NM-069-AD.

(a) Effective Date

This AD is effective May 31, 2016.

(b) Affected ADs

None.

(c) Applicability

This AD applies to Dassault Aviation Model FALCON 7X airplanes, certificated in any category, all serial numbers.

(d) Subject

Air Transport Association (ATA) of America Code 24, Electrical power.

(e) Reason

This AD was prompted by reports of multiple cases of ram air turbine (RAT) blade damage. We are issuing this AD to prevent blade damage to the RAT, which could prevent RAT deployment in flight during an emergency, possibly resulting in reduced control of the airplane.

(f) Compliance

Comply with this AD within the compliance times specified, unless already done.

(g) Placard Replacement

Except as provided by paragraph (h) of this AD: Within 28 months or during the next accomplishment of the RAT functional test, whichever occurs first after the effective date of this AD, deploy the RAT, replace the RAT placard with a new RAT placard, and re-identify the RAT part number (P/N) 1705673A to a part number identified in paragraph (g)(1) or (g)(2) of this AD, in accordance with the Accomplishment Instructions of Dassault Service Bulletin 7X-289, dated January 21, 2015.

(1) Change P/N 1705673A to P/N 1705673B.

(2) Change P/N 1705673A to a part number that is approved as a replacement for P/N 1705673A and approved as part of the type design by the Manager, International Branch, ANM-116, Transport Airplane Directorate, FAA; or the European Aviation Safety Agency (EASA); or Dassault Aviation's EASA Design Organization Approval (DOA); after the issue date of Dassault Service Bulletin 7X-289, dated January 21, 2015.

(h) Exception to Paragraph (g) of This AD

An airplane on which Dassault Aviation Modification M1428 has been embodied in production is not affected by the requirements of paragraph (g) of this AD, provided no RAT P/N 1705673A has been installed on that airplane since first flight.

(i) Parts Installation Prohibition

As of the effective date of this AD, no person may install a RAT having P/N 1705673A, on any airplane.

(j) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriquez, Aerospace Engineer, International Branch, ANM-116, Transport Airplane Directorate, FAA, 1601 Lind Avenue SW., Renton, WA 98057-3356; telephone: 425-227-1137; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(k) Related Information

Refer to Mandatory Continuing Airworthiness Information (MCAI) EASA AD 2015-0076, dated May 6, 2015, for related information. This MCAI may be found in the AD docket on the Internet at http://www.regulations.gov by searching for and locating Docket No. FAA-2015-7532.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Service Bulletin 7X-289, dated January 21, 2015.

(ii) Reserved.

(3) For service information identified in this AD, contact Dassault Falcon Jet, P.O. Box 2000, South Hackensack, NJ 07606; telephone: 201-440-6700; Internet: http://www.dassaultfalcon.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 31, 2016.
Victor Wicklund,
Acting Manager, Transport Airplane Directorate, Aircraft Certification Service.

[FR Doc. 2016-08952 Filed 4-25-16; 8:45 am]

BILLING CODE 4910-13-P